ENVIRONMENTAL PROTECTION AGENCY

[EPA-HQ-OPP-2025-1839; FRL-12993-01-OCSPP]

Pesticide Registration Maintenance Fee; Cancellation Order for Certain Pesticide Registrations

AGENCY: Environmental Protection Agency (EPA).

ACTION: Notice.

SUMMARY: Pursuant to the Federal Insecticide, Fungicide, and Rodenticide Act (FIFRA), the Environmental Protection Agency (EPA or Agency) is hereby issuing an order for the cancellations of the pesticide product registrations identified in this document. EPA previously announced its receipt of and requested comment on requests to voluntarily cancel the product registrations listed in Table 1 of Unit II. and announced its intent to cancel the product registrations listed in Table 3 of Unit II. With the issuance of this cancellation order, any sale, distribution, or use of products listed in this notice will be permitted after the registrations have been cancelled only if such sale, distribution, or use is consistent with the terms as described in the final order.

DATES: These cancellations are effective October 15, 2025.

ADDRESSES: The docket for this action, identified by docket identification (ID) number EPA-HQ-OPP-2025-1839, is available through https://www.regulations.gov. Additional information about dockets generally, along with instructions for visiting the docket in person, is available at https://www.epa.gov/dockets.

FOR FURTHER INFORMATION CONTACT: Jennifer Drobish, Registration Division (7505M), Office of Pesticide Programs, Environmental Protection Agency, 1200 Pennsylvania Ave. NW, Washington, DC 20460-0001; telephone number: (202) 566-2642; email address: drobish.jennifer@epa.gov.

SUPPLEMENTARY INFORMATION:

I. Executive Summary

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What is EPA's authority for taking this action?

FIFRA section 6(f)(1) (7 U.S.C. 136d(f)(1)) provides that a registrant of a pesticide product may at any time request that any of its pesticide registrations be cancelled or amended to terminate one or more uses. FIFRA further provides that, before acting on the request, EPA must publish a notice of receipt of any such request in the Federal Register. Thereafter, following the public comment period, the EPA Administrator may approve such a request.

FIFRA section 4(i)(5) (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing. Under FIFRA, the EPA Administrator may reduce or waive maintenance fees for minor agricultural use pesticides when it is determined that the fee would be likely to cause significant impact on the availability of the pesticide for the use.

C. What action is the Agency taking?

This cancellation order follows a notice of receipt and opportunity for public comment on the requests from the registrants listed to voluntarily cancel their product registrations. See 90 FR 37491, August 5, 2025 (FRL-12871-01-OCSPP). In that document, EPA also provided a notice of intent to cancel certain other product registrations for non-payment of the 2025 pesticide registration maintenance fees. Since registrations for which the fee is not paid are subject to cancellation by order and without a hearing, EPA did not seek public comment for the cancellation of the products listed.

In that document, EPA indicated that it would issue an order implementing the cancellations, unless the Agency received substantive comments within the 30-day comment period that would merit its further review of the requests, or unless the registrants withdrew their requests. The Agency received no comments, only a small number of withdrawals/changes by the end of the comment period from companies in Tables 1, 2, 3 and 4. Accordingly, EPA hereby issues this cancellation order granting the requested cancellations. Any distribution, sale, or use of the products subject to this cancellation order is permitted only in accordance with the terms of this order, including any existing stocks provisions.

II. Cancellation Order

Pursuant to FIFRA section 6(f) (7 U.S.C. 136d(f)), EPA hereby approves the requested cancellations and orders that the product registrations identified in Table 1 of this unit are cancelled. The effective date of the cancellations that are the subject of this order is October 15, 2025. Any distribution, sale, or use of existing stocks of the products identified in Table 1 of this unit in a manner inconsistent with any of the provisions for disposition of existing stocks set forth in Unit IV. will be a violation of FIFRA.

Table 1 of this unit lists the product cancellations, as requested by registrants, in sequence by registration number (or company number and FIFRA section 24(c) number).

Table 1—Product Cancellations
Registration No. | Company No. | Product name | Active ingredient
100-769 | 100 | MEDALLION FUNGICIDE | Fludioxonil (071503/131341-86-1)—(50%).
100-960 | 100 | FLAGSHIP 0.22G | Thiamethoxam (060109/153719-23-4)—(.22%).
100-1597 | 100 | Clariva Complete Beans 500 | Fludioxonil (071503/131341-86-1)—(.63%), Metalaxyl-M (113502/70630-17-0)—(1.88%), Pasteuria nishizawae Pn1 (016455/)—(5.07%), Sedaxane (129223/874967-67-6)—(.63%), Thiamethoxam (060109/153719-23-4)—(12.5%).
239-2716 | 239 | ORTHO GROUNDCLEAR VEGETATION KILLER RTU | Glyphosate, isopropylamine salt (103601/38641-94-0)—(5%), Imazapyr, isopropylamine salt (128829/81510-83-0)—(.08%).
239-2723 | 239 | NS 515 | Diquat dibromide (032201/85-00-7)—(.1%), Glyphosate, isopropylamine salt (103601/38641-94-0)—(2%).
239-2724 | 239 | NS 516 | Diquat dibromide (032201/85-00-7)—(.73%), Glyphosate, isopropylamine salt (103601/38641-94-0)—(18%).
239-2725 | 239 | NSR 001 | Diquat dibromide (032201/85-00-7)—(.6%), Glyphosate, isopropylamine salt (103601/38641-94-0)—(13%), Imazapic-ammonium (128943/115136-53-3)—(.35%).
239-2737 | 239 | GROUNDCLEAR S RTU | Glyphosate, isopropylamine salt (103601/38641-94-0)—(.14%), Imazapyr, isopropylamine salt (128829/81510-83-0)—(.02%).
777-131 | 777 | Cousteau | Hypochlorous Acid (129054/7790-92-3)—(.017%).
777-138 | 777 | Deadpool | Alkyl* dimethyl benzyl ammonium chloride *(50%C14, 40%C12, 10%C16) (069105/68424-85-1)—(3.711%), Citric acid (021801/77-92-9)—(5%), L-Lactic acid (128929/79-33-4)—(9.992%).
2724-829 | 2724 | RF2187 CDSO PLUS II FOR DOGS | Etofenprox (128965/80844-07-1)—(50%), MGK 264 (057001/113-48-4)—(.91%), Piperonyl butoxide (067501/51-03-6)—(9.1%), Pyriproxyfen (129032/95737-68-1)—(.45%), S-Methoprene (105402/65733-16-6)—(.23%).
5383-143 | 5383 | TROYSAN V48 | Diuron (035505/330-54-1)—(48%).
5481-456 | 5481 | METAM 376 | Metam-sodium (039003/137-42-8)—(38%).
5481-458 | 5481 | METAM 376 | Metam-sodium (039003/137-42-8)—(38%).
5481-466 | 5481 | VAPAM SOIL FUMIGANT SOLUTION FOR ALL CROPS | Metam-sodium (039003/137-42-8)—(32.7%).
5481-474 | 5481 | SODCURE 376 | Metam-sodium (039003/137-42-8)—(38%).
5481-482 | 5481 | FLY KILLER D | Naled (034401/300-76-5)—(36%).
5481-503 | 5481 | AMBUSH 25W INSECTICIDE WATER SOLUBLE PACK | Permethrin (109701/52645-53-1)—(25%).
5481-617 | 5481 | EQUUS DF | Chlorothalonil (081901/1897-45-6)—(82.5%).
5481-618 | 5481 | EQUUS 500 ZN | Chlorothalonil (081901/1897-45-6)—(38.5%).
5905-486 | 5905 | COPPER-Z 4/4 ALGICIDE/HERBICIDE | Copper sulfate pentahydrate (024401/7758-99-8)—(15.9%).
9198-158 | 9198 | THE ANDERSONS FERTILIZER PLUS 0.058% BIFENTHRIN | Bifenthrin (128825/82657-04-3)—(.058%).
9198-237 | 9198 | THE ANDERSONS WEED & GRASS PREVENTER WITH 5% TRAMMEL HERBICIDE (DISPERSIBLE GRA | Trifluralin (036101/1582-09-8)—(5%).
10088-107 | 10088 | CONTACT HERBICIDE #2 CONCENTRATE GRASS AND WEED KILLER | Glyphosate, isopropylamine salt (103601/38641-94-0)—(18%).
10088-108 | 10088 | CONTACT HERBICIDE #1 RTU | Glyphosate, isopropylamine salt (103601/38641-94-0)—(.96%).
10324-156 | 10324 | MAQUAT 512-NHQ | 1-Decanaminium, N-decyl-N,N-dimethyl-, chloride (069149/7173-51-5)—(20.28%), Alkyl* dimethyl benzyl ammonium chloride *(50%C14, 40%C12, 10%C16) (069105/68424-85-1)—(13.52%).
10324-230 | 10324 | Maguard 1522 | Ethaneperoxoic acid (063201/79-21-0)—(15%), Hydrogen peroxide (000595/7722-84-1)—(22%).
11678-55 | 11678 | MAGNATE TECHNICAL | Imazalil (111901/35554-44-0)—(98.5%).
34704-870 | 34704 | CHLOROTHALONIL 6 | Chlorothalonil (081901/1897-45-6)—(54%).
34704-874 | 34704 | APPLAUSE DF FUNGICIDE | Chlorothalonil (081901/1897-45-6)—(90%).
34704-878 | 34704 | CHLOROTHALONIL 90DF | Chlorothalonil (081901/1897-45-6)—(90%).
34704-914 | 34704 | CHLOROTHALONIL 825 AGRICULTURAL FUNGICIDE | Chlorothalonil (081901/1897-45-6)—(82.5%).
42750-350 | 42750 | ST Pre-Mix #9 | Azoxystrobin (128810/131860-33-8)—(1.18%), Metalaxyl (113501/57837-19-1)—(8.83%), Thiabendazole (060101/148-79-8)—(2.94%), Thiophanate-methyl (102001/23564-05-8)—(2.35%).
42750-353 | 42750 | ST Pre-Mix #11 | Fludioxonil (071503/131341-86-1)—(.81%), Imidacloprid (129099/138261-41-3)—(20.17%), Metalaxyl (113501/57837-19-1)—(5.05%), Thiophanate-methyl (102001/23564-05-8)—(3.28%).
42750-379 | 42750 | ST Pre-Mix #20 | Azoxystrobin (128810/131860-33-8)—(.71%), Imidacloprid (129099/138261-41-3)—(21.14%), Metalaxyl (113501/57837-19-1)—(5.28%), Thiabendazole (060101/148-79-8)—(1.76%), Thiophanate-methyl (102001/23564-05-8)—(1.4%).
63838-28 | 63838 | ReducX | Caprylic acid (128919/124-07-2)—(5.1%), Ethaneperoxoic acid (063201/79-21-0)—(8.4%), Hydrogen peroxide (000595/7722-84-1)—(7.6%).
63838-34 | 63838 | EP-D50 | 1-Decanaminium, N-decyl-N,N-dimethyl-, chloride (069149/7173-51-5)—(50%).
66222-20 | 66222 | MAGNATE 500 EC | Imazalil (111901/35554-44-0)—(44.5%).
66222-100 | 66222 | MAGNATE 75 SG | Imazalil (111901/35554-44-0)—(74.25%).
66222-138 | 66222 | ORYZALIN 4 AS | Oryzalin (104201/19044-88-3)—(41%).
70506-45 | 70506 | XL 2G | Benfluralin (084301/1861-40-1)—(1%), Oryzalin (104201/19044-88-3)—(1%).
70506-56 | 70506 | XL 2GR | Benfluralin (084301/1861-40-1)—(1%), Oryzalin (104201/19044-88-3)—(1%).
81964-21 | 81964 | CHLORPYRIFOS 61.5% MUP | Chlorpyrifos (059101/2921-88-2)—(61.5%).
84229-20 | 84229 | CHLORPYRIFOS 4 EC | Chlorpyrifos (059101/2921-88-2)—(44.9%).
89442-6 | 89442 | CHLOROTHALONIL 82.5DF SELECT | Chlorothalonil (081901/1897-45-6)—(82.5%).
89442-9 | 89442 | CHLOROTHALONIL 720 SELECT | Chlorothalonil (081901/1897-45-6)—(54%).
92617-1 | 92617 | COPPER TREAT 120 READY TO USE | Copper naphthenate (023102/1338-02-9)—(21.6%).
AK220001 | 67690 | SONAR GENESIS | Fluridone (112900/59756-60-4)—(6.3%).
AR130003 | 279 | SPARTAN CHARGE HERBICIDE | Sulfentrazone (129081/122836-35-5)—(31.77%), Carfentrazone-ethyl (128712/128639-02-1)—(3.53%).
AR160001 | 8033 | CONFIRM 2F INSECTICIDE | Tebufenozide (129026/112410-23-8)—(23%).
AZ000006 | 400 | COMITE AGRICULTURAL MITICIDE | Propargite (097601/2312-35-8)—(73.6%).
AZ080016 | 400 | TERRAMASTER 4EC | Etridiazole (084701/2593-15-9)—(44.3%).
CA020017 | 66330 | CAPTAN 50 WETTABLE POWDER | Captan (081301/133-06-2)—(48.9%).
CA040013 | 400 | COMITE | Propargite (097601/2312-35-8)—(73.6%).
CA130012 | 66222 | DIREX 4L | Diuron (035505/330-54-1)—(40.7%).
CA820083 | 400 | COMITE AGRICULTURAL MITICIDE | Propargite (097601/2312-35-8)—(73.6%).
CA830024 | 400 | COMITE AGRICULTURAL MITICIDE | Propargite (097601/2312-35-8)—(73.6%).
CA940031 | 400 | COMITE AGRICULTURAL MITICIDE | Propargite (097601/2312-35-8)—(73.6%).
CO080002 | 400 | COMITE II | Propargite (097601/2312-35-8)—(69.6%).
CO110003 | 59639 | VALOR HERBICIDE | Flumioxazin (129034/103361-09-7)—(51%).
DE170002 | 279 | DUPONT SENTRALLAS HERBICIDE | Fluroxypyr 1-methylheptyl ester (128968/81406-37-3)—(21.9%), Thifensulfuron (128845/79277-27-3)—(3%).
DE220001 | 66330 | Audit 1:1 | Tribenuron-methyl (128887/101200-48-0)—(25%), Thifensulfuron (128845/79277-27-3)—(25%).
FL030011 | 400 | TERRAMASTER 4EC | Etridiazole (084701/2593-15-9)—(44.3%).
GA790021 | 400 | VITAVAX-200 FLOWABLE FUNGICIDE (VITAVAX WITH THIRAM) | Thiram (079801/137-26-8)—(17%), Carboxin (090201/5234-68-4)—(17%).
ID060012 | 66222 | RIMON 0.83 EC | Novaluron (124002/116714-46-6)—(9.3%).
ID110008 | 66330 | DIMETHOATE 4E | Dimethoate (035001/60-51-5)—(43.5%).
ID110009 | 59639 | VALOR HERBICIDE | Flumioxazin (129034/103361-09-7)—(51%).
ID180006 | 7173 | ROZOL VOLE BAIT | Chlorophacinone (067707/3691-35-8)—(.005%).
ID190004 | 7173 | ROZOL VOLE BAIT | Chlorophacinone (067707/3691-35-8)—(.005%).
KY080004 | 400 | TERRAZOLE 4EC | Etridiazole (084701/2593-15-9)—(44.3%).
KY240001 | 10163 | M-PEDE INSECTICIDE/MITICIDE/FUNGICIDE | Potassium laurate (079021/67701-09-1)—(49%).
LA130009 | 81880 | PERMIT PLUS | Thifensulfuron (128845/79277-27-3)—(8%), Halosulfuron-methyl (128721/100784-20-1)—(67%).
LA130010 | 81880 | GWN-3061 | Halosulfuron-methyl (128721/100784-20-1)—(75%).
LA130011 | 8033 | CONFIRM 2F INSECTICIDE | Tebufenozide (129026/112410-23-8)—(23%).
LA210003 | 5481 | ENVOKE HERBICIDE | 2-Pyridinesulfonamide, N-[[(4,6-dimethoxy-2-pyrimidinyl)amino]carbonyl]-3-(2,2,2-trifluoroethoxy)-, monosodium salt, monohydrate (119009/290332-10-4)—(75%).
MD180001 | 279 | DUPONT SENTRALLAS HERBICIDE | Thifensulfuron (128845/79277-27-3)—(3%), Fluroxypyr 1-methyleptyl ester (128968/81406-37-3)—(21.9%).
MI220001 | 400 | PROCURE 480SC | Triflumizole (128879/68694-11-1)—(42.14%).
MN050003 | 400 | TERRAZOLE 4EC | Etridiazole (084701/2593-15-9)—(44.3%).
MO050003 | 279 | SPARTAN 4F | Sulfentrazone (129081/122836-35-5)—(39.6%).
MS030004 | 400 | TERRAZOLE 4EC | Etridiazole (084701/2593-15-9)—(44.3%).
MT180002 | 59639 | VALOR HERBICIDE | Flumioxazin (129034/103361-09-7)—(51%).
NC140002 | 400 | BEAN GUARD/ALLEGIANCE | Captan (081301/133-06-2)—(24.45%), Carboxin (090201/5234-68-4)—(12.5%), Metalaxyl (113501/57837-19-1)—(3.75%).
NC150004 | 59639 | V-10233 HERBICIDE | Flumioxazin (129034/103361-09-7)—(33.5%), Pyroxasulfone (090099/447399-55-5)—(42.5%).
NV880007 | 400 | COMITE AGRICULTURAL MITICIDE | Propargite (097601/2312-35-8)—(73.6%).
NY120006 | 67690 | SP 1908 AQUATIC HERBICIDE | Fluridone (112900/59756-60-4)—(6.3%).
NY120017 | 67690 | SONAR SRP | Fluridone (112900/59756-60-4)—(5%).
NY130001 | 67690 | SONAR X | Fluridone (112900/59756-60-4)—(5%).
NY200005 | 400 | PROCURE 480SC | Triflumizole (128879/68694-11-1)—(42.14%).
OH210001 | 400 | PROCURE 480SC | Triflumizole (128879/68694-11-1)—(42.14%).
OH950001 | 66330 | CAPTAN 50 WETTABLE POWDER | Captan (081301/133-06-2)—(48.9%).
OK040004 | 400 | TERRAMASTER 4EC | Etridiazole (084701/2593-15-9)—(44.3%).
OK110003 | 59639 | VALOR HERBICIDE | Flumioxazin (129034/103361-09-7)—(51%).
OR010003 | 5481 | K-SALT FRUIT FIX 800 | Potassium 1-naphthaleneacetate (056003/15165-79-4)—(24.2%).
OR080028 | 400 | VITAVAX FLOWABLE FUNGICIDE | Carboxin (090201/5234-68-4)—(34%).
OR150008 | 279 | SPARTAN 4F | Sulfentrazone (129081/122836-35-5)—(39.6%).
OR150009 | 8033 | TOPSIN M WSB | Thiophanate-methyl (102001/23564-05-8)—(70%).
OR190003 | 400 | VITAFLO 280 | Thiram (079801/137-26-8)—(13.25%), Carboxin (090201/5234-68-4)—(15.59%).
OR190010 | 100 | APRON XL LS | Metalaxyl-M (113502/70630-17-0)—(33.3%).
OR190012 | 400 | COMITE | Propargite (097601/2312-35-8)—(73.6%).
OR190013 | 100 | NORTHSTAR HERBICIDE | Primisulfuron-methyl (128973/86209-51-0)—(7.5%), Dicamba, sodium salt (029806/1982-69-0)—(43.9%).
OR190015 | 400 | ACRAMITE-4SC | Bifenazate (000586/149877-41-8)—(43.2%).
OR190016 | 400 | COMITE | Propargite (097601/2312-35-8)—(73.6%).
OR190017 | 400 | COMITE | Propargite (097601/2312-35-8)—(73.6%).
OR190018 | 400 | ACRAMITE-4SC | Bifenazate (000586/149877-41-8)—(43.2%).
OR200010 | 400 | COMITE | Propargite (097601/2312-35-8)—(73.6%).
PA030005 | 400 | TERRAMASTER 4EC | Etridiazole (084701/2593-15-9)—(44.3%).
PA200005 | 400 | PROCURE 480SC | Triflumizole (128879/68694-11-1)—(42.14%).
PA990004 | 66330 | CAPTAN 50 WETTABLE POWDER | Captan (081301/133-06-2)—(48.9%).
TN080011 | 400 | TERRAMASTER 4EC | Etridiazole (084701/2593-15-9)—(44.3%).
UT190001 | 91234 | AQUESTA 4 F | Sulfentrazone (129081/122836-35-5)—(39.6%).
VA030005 | 400 | TERRAMASTER 4EC | Etridiazole (084701/2593-15-9)—(44.3%).
VA170002 | 279 | DUPONT SENTRALLAS HERBICIDE | Thifensulfuron (128845/79277-27-3)—(3%), Fluroxypyr 1-methyleptyl ester (128968/81406-37-3)—(21.9%).
VT170002 | 91865 | GH MPMT | Potassium laurate (079021/67701-09-1)—(49%).
WA070008 | 400 | ACRAMITE-4SC | Bifenazate (000586/149877-41-8)—(43.2%).
WA150003 | 400 | ACRAMITE-4SC | Bifenazate (000586/149877-41-8)—(43.2%).
WI180003 | 66222 | BRAVO 825 AGRICULTURAL FUNGICIDE | Chlorothalonil (081901/1897-45-6)—(82.5%).
WI180004 | 66222 | BRAVO 720 | Chlorothalonil (081901/1897-45-6)—(54%).
WI180005 | 66222 | BRAVO ZN | Chlorothalonil (081901/1897-45-6)—(38.5%).
WI180006 | 66222 | BRAVO 720 | Chlorothalonil (081901/1897-45-6)—(54%).
WY120001 | 59639 | VALOR HERBICIDE | Flumioxazin (129034/103361-09-7)—(51%).
WY190001 | 400 | ACRAMITE-4SC | Bifenazate (000586/149877-41-8)—(43.2%).

Table 2 of this unit includes the names and addresses of record for all registrants of the products in Table 1 of this unit, in sequence by EPA company number. This number corresponds to the first part of the EPA registration numbers of the products listed in Table 1 of this unit.

Table 2—Registrants of the Voluntarily Cancelled Products
Company No. | Company name and address
100 | SYNGENTA CROP PROTECTION, LLC, P.O. BOX 18300, GREENSBORO, NC 27419-8300.
239 | THE SCOTTS COMPANY, 14111 SCOTTSLAWN ROAD, MARYSVILLE, OH 43041.
279 | FMC CORPORATION, 2929 WALNUT STREET, PHILADELPHIA, PA 19104.
400 | MACDERMID AGRICULTURAL SOLUTIONS, INC./UPL NA INC., 630 FREEDOM BUSINESS CENTER, SUITE 402, KING OF PRUSSIA, PA 19406.
777 | RECKITT BENCKISER LLC., 399 INTERPACE PARKWAY, PARSIPPANY, NJ 07054-0225.
2724 | WELLMARK INTERNATIONAL, 1501 E WOODFIELD ROAD, SUITE 200 WEST, SCHAUMBURG, IL 60173.
5383 | TROY CHEMICAL CORPORATION, 8 VREELAND ROAD, FLORHAM PARK, NJ 07932.
5481 | AMVAC CHEMICAL CORPORATION, 4695 MACARTHUR COURT, SUITE 1200, NEWPORT BEACH, CA 92660-1706.
5905 | HELENA AGRI-ENTERPRISES, LLC, D/B/A HELENA CHEMICAL COMP, L225 SCHILLING BLVD., SUITE 300, COLLIERVILLE, TN 38017.
7173 | LIPHATECH, INC., 3600 W ELM STREET, MILWAUKEE, WI 53209.
8033 | NISSO AMERICA INC., 379 THORNALL STREET, 5TH FLOOR, EDISON, NJ 08837.
9198 | THE ANDERSONS, INC., P.O. BOX 119, MAUMEE, OH 43537.
10088 | ATHEA LABORATORIES INC., P.O. BOX 240014, MILWAUKEE, WI 53224.
10163 | GOWAN COMPANY, LLC, 370 S MAIN ST., YUMA, AZ 85366.
10324 | MASON CHEMICAL COMPANY, 9075 CENTRE POINTE DR., SUITE 400, WEST CHESTER, OH 45069.
11678 | MAKHTESHIM-AGAN OF NORTH AMERICA, INC., D/B/A ADAMA, 8601 SIX FORKS ROAD, SUITE 300, RALEIGH, NC 27615.
34704 | LOVELAND PRODUCTS, INC., P.O. Box 1286, GREELEY, CO 80632-1286.
42750 | ALBAUGH, LLC, 1525 NE 36TH STREET, ANKENY, IA 50021.
59639 | VALENT U.S.A. LLC, P.O. BOX 5075, SAN RAMON, CA 94583.
63838 | ENVIRO TECH CHEMICAL SERVICES, INC., 500 WINMOORE WAY, MODESTO, CA 95358.
66222 | MAKHTESHIM AGAN OF NORTH AMERICA, INC., 8601 SIX FORKS ROAD, SUITE 300, RALEIGH, NC 27615.
66330 | UPL NA INC./ARYSTA LIFESCIENCE NORTH AMERICA LLC, 630 FREEDOM BUSINESS CENTER, SUITE 402, KING OF PRUSSIA, PA 19406.
67690 | SEPRO CORPORATION, 11550 N MERIDIAN STREET, SUITE 600, CARMEL, IN 46032.
70506 | UPL NA INC., P.O. BOX 12219, RESEARCH TRIANGLE PARK, NC 27709.
81880 | CANYON GROUP LLC/GOWAN COMPANY, 370 S MAIN STREET, YUMA, AZ 85364.
81964 | CHEMSTARR, LLC., 21 HUBBLE, IRVINE, CA 92618.
83558 | ADAMA, 8601 SIX FORKS ROAD, SUITE 300, RALEIGH, NC 276715.
84229 | TIDE INTERNATIONAL, USA, INC., 21 HUBBLE, IRVINE, CA 92618.
89442 | PRIME SOURCE (ALBAUGH LLC), 1525 NE 36TH STREET, ANKENY, IA 50021.
91234 | ATTICUS, LLC, 940 NW CARY PARKWAY, SUITE 200, CARY, NC 27513.
91865 | HAWTHORNE HYDROPONICS LLC D/B/A GENERAL HYDROPONICS, 2877 GIFFEN AVE., SANTA ROSA, CA 95407.
92617 | KOP-COAT, INC. DBA KOP-COAT PROTECTION PRODUCTS, 3040 WILLIAM PITT WAY, PITTSBURGH, PA 15238.

Table 3 of this unit lists all the FIFRA sections 3 and 24(c) registrations that were canceled for non-payment of the 2025 maintenance fee. These registrations are canceled by this order effective October 15, 2025 and without a hearing.

Table 3—Registrations Cancelled for Non-Payment of 2025 Maintenance Fee
Registration No. | Company No. | Product name | Active ingredient
322-28 | 322 | STRYCHNINE ALKALOID NFX | Strychnine (076901/57-24-9)—(98.4%).
577-572 | 577 | SEAVOYAGE 100 ANTI-FOULING PAINT | Copper 2-pyridinethio-1-oxide (088001/14915-37-8)—(4.12%), Cuprous oxide (025601/1317-39-1)—(21.05%).
961-380 | 961 | PAR EX FERTILIZER PLUS 1.5% RONSTAR | Oxadiazon (109001/19666-30-9)—(1.5%).
961-394 | 961 | LEBANON FERTILIZER PLUS CONFRONT TR BRAND HERBICIDE | 2,4-D, butoxyethyl ester (030053/1929-73-3)—(.829%), Triclopyr, butoxyethyl ester (116004/64700-56-7)—(.398%).
961-395 | 961 | CONFRONT III + FERTILIZER | 2,4-D, dimethylamine salt (030019/2008-39-1)—(1.037%), Fluroxypyr 1-methylheptyl ester (128968/81406-37-3)—(.207%), Triclopyr, triethylamine salt (116002/57213-69-1)—(.303%).
961-424 | 961 | LANDSCAPE MULCH WITH INSECTICIDE | Bifenthrin (128825/82657-04-3)—(.00016%).
961-426 | 961 | BIFENTHRIN 0.115% INSECTICIDE | Bifenthrin (128825/82657-04-3)—(.115%).
2935-407 | 2935 | GOLDEN-DEW | Sulfur (077501/7704-34-9)—(92%).
2935-523 | 2935 | SUPREME OIL 98-2 | Mineral oil—includes paraffin oil from 063503 (063502/8012-95-1)—(98%).
2935-547 | 2935 | NO MOSS 10-4-6 | Ferrous sulfate monohydrate (050507/17375-41-6)—(30.52%).
2935-557 | 2935 | OPEN RANGE G | Imazapic-ammonium (128943/115136-53-3)—(.885%).
4582-70 | 4582 | MNDA M-9011 | Neodecanamide, N-methyl- (079052/105726-67-8)—(96.3%).
8655-2 | 8655 | EASTMAN PROPIONIC ACID P-RF GRAIN PRESERVATIVE | Propionic acid (077702/79-09-4)—(99.5%).
9404-91 | 9404 | SUNNILAND LAWN FOOD WITH 0.25% PRODIAMINE | Prodiamine (110201/29091-21-2)—(.25%).
10900-72 | 10900 | 856 INSECT REPELLENT II | Diethyl toluamide (080301/134-62-3)—(25%), MGK 264 (057001/113-48-4)—(5%), MGK 326 (047201/136-45-8)—(2.5%).
11411-1 | 11411 | LESLIE'S SWIMMING POOL SUPPLIES CHLOR BRITE II | Sodium dichloro-s-triazinetrione (081404/2893-78-9)—(97%).
11411-5 | 11411 | LESLIE'S SWIMMING POOL SUPPLIES FLOATING CHLORINATOR | Trichloro-s-triazinetrione (081405/87-90-1)—(99%).
23566-6 | 23566 | 610 RED HATTERAS COPPER | Cuprous oxide (025601/1317-39-1)—(25%).
33427-26 | 33427 | Aceto Methoxyfenozide Technical | Methoxyfenozide (121027/161050-58-4)—(98.6%).
33427-32 | 33427 | Ethalfluralin Technical | Ethalfluralin (113101/55283-68-6)—(96%).
36029-1 | 36029 | WILCO GOPHER GETTER TYPE 1 BAIT | Strychnine (076901/57-24-9)—(.5%).
36029-7 | 36029 | WILCO GOPHER GETTER AG BAIT | Strychnine (076901/57-24-9)—(.5%).
36638-25 | 36638 | NOMATE PBW MEC | 7,11-Hexadecadien-1-ol, acetate, (E,Z)- (114101/53042-79-8)—(10%), 7,11-Hexadecadien-1-ol, acetate, (Z,Z)- (114102/52207-99-5)—(10%).
36638-43 | 36638 | NOMATE LBAM SPIRAL | (E)-11-Tetradecen-1-ol acetate (129019/33189-72-9)—(7.74%), (E,E)-9,11-Tetradecadien-1-ol acetate (128000/54664-98-1)—(.32%).
42182-20 | 42182 | ULTRA FRESH NM-100 | Triclosan (054901/3380-34-5)—(99%).
43497-1 | 43497 | CHLOR 64 | Sodium hypochlorite (014703/7681-52-9)—(6.4%).
44446-48 | 44446 | BUG BAN PLUS | Diethyl toluamide (080301/134-62-3)—(22.56%), MGK 264 (057001/113-48-4)—(5%), MGK 326 (047201/136-45-8)—(2.5%).
45600-20 | 45600 | INSECTA LIQUID | Permethrin (109701/52645-53-1)—(2%).
45728-7 | 45728 | FERBAM GRANUFLO | Ferbam (034801/14484-64-1)—(76%).
45728-21 | 45728 | THIRAM GRANUFLO AGRICULTURAL FUNGICIDE | Thiram (079801/137-26-8)—(75%).
45728-28 | 45728 | FLOWSAN SEED TREATMENT | Thiram (079801/137-26-8)—(44.04%).
46813-69 | 46813 | FLYING INSECT KILLER I | MGK 264 (057001/113-48-4)—(3.146%), Piperonyl butoxide (067501/51-03-6)—(1.95%) Pyrethrins (069001/8003-34-7)—(.974%).
47265-4 | 47265 | SHIN-ETSU RACEMIC DISPARLURE | cis-7,8-Epoxy-2-methyloctadecane (114301/29804-22-6)—(89.2%).
50600-13 | 50600 | SB-Chlorinate III | Sodium hypochlorite (014703/7681-52-9)—(12.5%).
52991-23 | 52991 | BEDOUKIAN L-CARVONE | L-Carvone (079500/6485-40-1)—(99.5%).
52991-25 | 52991 | BEDOUKIAN LINALOOL TECHNICAL | Linalool (128838/78-70-6)—(94.5%).
52991-26 | 52991 | BEDOUKIAN CITRAL TECHNICAL | Citral (040510/5392-40-5)—(98%).
52991-38 | 52991 | Triple B Repellent Ready To Use Spray | Cyclopentaneacetic acid, 3-oxo-2-pentyl-, propyl ester (028000/158474-72-7)—(1.875%), Delta-dodecalactone (031134/713-95-1)—(2.5%), Methyl-dihydrojasmonate (031135/54562-27-5)—(.625%).
52991-40 | 52991 | Triple B Repellent Concentrate | Cyclopentaneacetic acid, 3-oxo-2-pentyl-, propyl ester (028000/158474-72-7)—(3.75%), Delta-dodecalactone (031134/713-95-1)—(5%), Methyl-dihydrojasmonate (031135/54562-27-5)—(1.25%).
52991-41 | 52991 | BEDOUKIAN PROPYL DIHYDRO JASMONATE TECHNICAL | Cyclopentaneacetic acid, 3-oxo-2-pentyl-, propyl ester (028000/158474-72-7)—(97%).
52991-42 | 52991 | Triple B Professional Repellent Concentrate | Cyclopentaneacetic acid, 3-oxo-2-pentyl-, propyl ester (028000/158474-72-7)—(17.3%), Delta-dodecalactone (031134/713-95-1)—(23.08%), Methyl-dihydrojasmonate (031135/54562-27-5)—(5.77%).
52991-43 | 52991 | Bedoukian Delta-Dodecalactone Technical | Delta-dodecalactone (031134/713-95-1)—(99.7%).
53053-21 | 53053 | ENVIROSYSTEMS PROSHIELD 5000 | 1-Octadecanaminium, N,N-dimethyl-N-(3-(trimethoxysilyl)propyl)-, chloride (107401/27668-52-6)—(5%).
53053-22 | 53053 | ENVIROSYSTEMS BIOSHIELD 150 | 1-Octadecanaminium, N,N-dimethyl-N-(3-(trimethoxysilyl)propyl)-, chloride (107401/27668-52-6)—(1.5%).
53053-23 | 53053 | ENVIROSYSTEMS BIOSHIELD 50 | 1-Octadecanaminium, N,N-dimethyl-N-(3-(trimethoxysilyl)propyl)-, chloride (107401/27668-52-6)—(.5%).
53053-24 | 53053 | ENVIROSYSTEMS BIOSHIELD 75 | 1-Octadecanaminium, N,N-dimethyl-N-(3-(trimethoxysilyl)propyl)-, chloride (107401/27668-52-6)—(.75%).
53053-25 | 53053 | ENVIROSYSTEMS BIOSHIELD 7200 | 1-Octadecanaminium, N,N-dimethyl-N-(3-(trimethoxysilyl)propyl)-, chloride (107401/27668-52-6)—(71.2%).
53053-28 | 53053 | ENVIROSYSTEMS PROSHIELD 5000 D | 1-Octadecanaminium, N,N-dimethyl-N-(3-(trimethoxysilyl)propyl)-, chloride (107401/27668-52-6)—(5%).
53735-10 | 53735 | SPA BROMINE DISINFECTANT | 2,4-Imidazolidinedione, 1-bromo-3-chloro-5,5-dimethyl- (006315/16079-88-2)—(96%).
53575-35 | 53575 | ISOMATE CM RING | CheckMate Technical Pheromone (129028/33956-49-9)—(55.05%), Lauryl alcohol (001509/112-53-8)—(31.22%), Myristyl alcohol (001510/112-72-1)—(6.3%).
55487-20001 | 55487 | B'S POOL SUPPLY SODIUM HYPOCHLORITE SOLUTION (12.5%) | Sodium hypochlorite (014703/7681-52-9)—(12.5%).
56336-6 | 56336 | CHECKMATE (R) TPW | (E)-4-Tridecen-l-yl acetate (121902/72269-48-8)—(2.84%), (Z)-4-Tridecen-1-yl acetate (121901/65954-19-0)—(.09%).
56336-39 | 56336 | CHECKMATE APM-F | (Z)-11-Hexadecenal (120001/53939-28-9)—(9.96%).
56336-40 | 56336 | CHECKMATE WPCM-F | (E,Z)-3,13-Octadecadien-1-ol (129117/66410-28-4)—(14.02%), (Z,Z)-3,13-Octadecadien-1-ol (117241/66410-24-0)—(3.55%).
56336-45 | 56336 | PUFFER APM | (Z)-11-Hexadecenal (120001/53939-28-9)—(12.24%).
56336-58 | 56336 | CHECKMATE LBAM DISPENSER | (E)-11-Tetradecen-1-ol acetate (129019/33189-72-9)—(8.36%), (E,E)-9,11-Tetradecadien-1-ol acetate (128000/54664-98-1)—(.44%).
56336-59 | 56336 | CHECKMATE LBAM-F | (E)-11-Tetradecen-1-ol acetate (129019/33189-72-9)—(16.33%) (E,E)-9,11-Tetradecadien-1-ol acetate (128000/54664-98-1)—(.86%).
56336-63 | 56336 | CHECKMATE SF-XL | (E)-8-Dodecen-1-yl acetate (128907/38363-29-0)—(.77%), (Z)-8-Dodecen-1-yl acetate (128906/28079-04-1)—(12%), 5-Decen-1-ol, (E)—(078038/56578-18-8)—(1.73%), 5-Decen-1-ol, acetate, (E)—(117703/38421-90-8)—(8.34%), Dodecen-1-ol, (Z)—(128908/40642-40-8)—(.13%).
56336-77 | 56336 | CheckMate LRz I Flowable | (Z)-11-Tetradecenyl acetate (128980/20711-10-8)—(23%).
56783-1 | 56783 | DAMMINIX | Permethrin (109701/52645-53-1)—(7.4%).
56783-2 | 56783 | MITE ARREST | Permethrin (109701/52645-53-1)—(7.4%).
56890-3 | 56890 | CHLORINATING SKIMMER STICKS | Trichloro-s-triazinetrione (081405/87-90-1)—(99%).
56890-4 | 56890 | 1 Chlorinating Tablets | Trichloro-s-triazinetrione (081405/87-90-1)—(99%).
61671-1 | 61671 | MENTHOL | Menthol (051601/1490-04-6)—(99.94%).
61671-2 | 61671 | PARA-MOTH | Paradichlorobenzene (061501/106-46-7)—(99.94%).
61842-10 | 61842 | FLAGSTICK | Fosetyl-Al (123301/39148-24-8)—(70%).
61842-15 | 61842 | M-97-009 KAOLIN | Kaolin clay (100104/1332-58-7)—(100%).
61842-20 | 61842 | LAYBY PRO HERBICIDE | Diuron (035505/330-54-1)—(20%), Linuron (035506/330-55-2)—(20.3%).
61842-33 | 61842 | SEVIN BRAND 85 SPRAYABLE CARBARYL INSECTICIDE | Carbaryl (056801/63-25-2)—(85%).
61842-34 | 61842 | SEVIN 80 SOLUPAK | Carbaryl (056801/63-25-2)—(80%).
61842-39 | 61842 | SEVIN BRAND 80 WSP CARBARYL INSECTICIDE | Carbaryl (056801/63-25-2)—(80%).
61842-53 | 61842 | METHOMYL COMPOSITION | Methomyl (090301/16752-77-5)—(92%).
62899-2 | 62899 | Crop Cure 2a | Sodium diacetate (044008/126-96-5)—(90%).
63802-1 | 63802 | CHLORINE | Chlorine (020501/7782-50-5)—(99.5%).
64137-20 | 64137 | BIO-SAVE 1000 BIOLOGICAL FUNGICIDE | Pseudomonas syringae, strain ESC 10 (006441/68583-32-4)—(83%).
64137-24 | 64137 | BIO-SAVE 10 NT BIOLOGICAL FUNGICIDE | Pseudomonas syringae, strain ESC 10 (006441/68583-32-4)—(28.61%).
64137-25 | 64137 | BIO-SAVE 11 NT BIOLOGICAL FUNGICIDE | Pseudomonas syringae, strain ESC-11 (006451/)—(28.61%).
64321-10 | 64321 | BIO KILL EXTRA GT INSECTICIDE | Prallethrin (128722/23031-36-9)—(1%), lambda-Cyhalothrin (128897/91465-08-6)—(9%).
64321-11 | 64321 | BIO KILL EXTRA GT READY-TO-USE | Prallethrin (128722/23031-36-9)—(.0075%), lambda-Cyhalothrin (128897/91465-08-6)—(.0675%).
65146-2 | 65146 | TRICHLOROMELAMINE | Trichloromelamine (077101/7673-09-8)—(98%).
65169-1 | 65169 | CHLORO GLASS SANITIZER | Trichloromelamine (077101/7673-09-8)—(18.7%).
68660-3 | 68660 | PROXITANE M-15 TECHNICAL PEROXYACETIC ACID | Ethaneperoxoic acid (063201/79-21-0)—(15%), Hydrogen peroxide (000595/7722-84-1)—(14%).
68959-12 | 68959 | DECON-CYCLE Plus | 2-Benzyl-4-chlorophenol (062201/120-32-1)—(10.91%), o-Phenylphenol (NO INERT USE) (064103/90-43-7)—(11.05%).
69117-2 | 69117 | GREYHOUND INSECTICIDE | Abamectin (122804/71751-41-2)—(2%).
69117-8 | 69117 | POINTER INSECTICIDE S | Imidacloprid (129099/138261-41-3)—(5%).
69204-1 | 69204 | TK-10 | Prometon (080804/1610-18-0)—(3.75%).
69274-1 | 69274 | DEER NO NO DEER REPELLENT | Soap (079009/61789-31-9)—(85%).
69403-1 | 69403 | SANIGUARD | 1-Decanaminium, N-decyl-N,N-dimethyl-, chloride (069149/7173-51-5)—(.096%).
70553-2 | 70553 | PERMETHRIN TECHNICAL | Permethrin (109701/52645-53-1)—(95.5%).
72961-1 | 72961 | BOROWOOD TECHNICAL | Boron sodium oxide (B8Na2O13), tetrahydrate (12280-03-4) (011103/12280-03-4)—(99.98%).
73479-2 | 73479 | PUFFER CM | CheckMate Technical Pheromone (129028/33956-49-9)—(18.05%).
73479-22 | 73479 | CheckMate Puffer NOW-O Pro | (Z,Z)-11,13-Hexadecadienal (000711/71317-73-2)—(.49%).
73479-8 | 73479 | PUFFER OFM | (E)-8-Dodecen-1-yl acetate (128907/38363-29-0)—(.75%), (Z)-8-Dodecen-1-yl acetate (128906/28079-04-1)—(11.63%), Dodecen-1-ol, (Z)- (128908/40642-40-8)—(.12%).
74468-11 | 74468 | PRE-AMINE 65 WDG | Prodiamine (110201/29091-21-2)—(65%).
74468-14 | 74468 | AZOXYSTROBIN TECHNICAL | Azoxystrobin (128810/131860-33-8)—(99%).
74468-15 | 74468 | 2,4-D Amine 4 | 2,4-D, dimethylamine salt (030019/2008-39-1)—(47.2%).
74468-16 | 74468 | ProActive Azoxystrobin Technical | Azoxystrobin (128810/131860-33-8)—(98.5%).
74530-4 | 74530 | HELOSATE PRO | Glyphosate, isopropylamine salt (103601/38641-94-0)—(41%).
74530-14 | 74530 | HELOSATE 62% MUP | Glyphosate, isopropylamine salt (103601/38641-94-0)—(62%).
74530-43 | 74530 | HELOSATE PLUS ADVANCED | Glyphosate, isopropylamine salt (103601/38641-94-0)—(41%).
74530-56 | 74530 | HELOSATE 5 HERBICIDE | Glyphosate, isopropylamine salt (103601/38641-94-0)—(50.2%).
74779-1 | 74779 | ARACINATE TREE INJECTION | Abamectin (122804/71751-41-2)—(2%).
74779-10 | 74779 | RTSA 14.3% PROPICONAZOLE | Propiconazole (122101/60207-90-1)—(14.3%).
75337-1 | 75337 | HORMOGEL | Indole-3-butyric acid (046701/133-32-4)—(.2%).
79894-6 | 79894 | INSECT-O-CLEAN | D-Limonene (179701/5989-27-5)—(5.8%).
81899-5 | 81899 | AZAPURE (AZADIRACHTIN TECHNICAL) | Azadirachtin (121701/108168-76-9)—(40%).
82012-3 | 82012 | ANTIMICROBIAL COPPER ALLOYS—GROUP III | Copper as elemental (022501/7440-50-8)—(82.6%).
82012-5 | 82012 | ANTIMICROBIAL COPPER ALLOYS GROUP V | Copper as elemental (022501/7440-50-8)—(66.5%).
82484-1 | 82484 | DRO-5000 | Chlorine dioxide (020503/10049-04-4)—(5%).
83558-22 | 83558 | ORYZALIN TECHNICAL | Oryzalin (104201/19044-88-3)—(95.6%).
83558-24 | 83558 | ORYZALIN 4MC | Oryzalin (104201/19044-88-3)—(41%).
84059-11 | 84059 | MBI-005 TGAI | Killed, non-viable Streptomyces acidiscabies strain RL-110T cells and spent fermentation media (016328/)—(100%).
84059-12 | 84059 | MBI-005 EP | Killed, non-viable Streptomyces acidiscabies strain RL-110T cells and spent fermentation media (016328/)—(17%).
84059-26 | 84059 | MBI-601 EP | Muscodor albus strain SA-13 and spent and unspent fermentation media (006666/)—(100%).
85353-1 | 85353 | CUVERRO I | Copper as elemental (022501/7440-50-8)—(66.5%).
85353-2 | 85353 | CUVERRO II | Copper as elemental (022501/7440-50-8)—(73%).
85353-3 | 85353 | CUVERRO III | Copper as elemental (022501/7440-50-8)—(82.6%).
85353-5 | 85353 | CUVERRO V | Copper as elemental (022501/7440-50-8)—(91.3%).
85353-6 | 85353 | CUVERRO VI | Copper as elemental (022501/7440-50-8)—(62%).
85678-66 | 85678 | Acifluorfen 44% MUP | Sodium acifluorfen (114402/62476-59-9)—(44%).
85724-1 | 85724 | AKOTOP 85 WG | Thiophanate-methyl (102001/23564-05-8)—(85%).
85724-10 | 85724 | AKOFOS 48 EC | Chlorpyrifos (059101/2921-88-2)—(42.5%).
85724-11 | 85724 | OVNI XL | Glyphosate (417300/1071-83-6)—(30%), Oxyfluorfen (111601/42874-03-3)—(3.75%).
85724-12 | 85724 | MERJAN 50WP | Captan (081301/133-06-2)—(48.93%).
85797-1 | 85797 | Handheld Electrochemical Decon Apparatus | Sodium bromide (013907/7647-15-6)—(45.2%), Sodium chlorite (020502/7758-19-2)—(51.4%).
87394-6 | 87394 | Ninja Neem | Cold Pressed Neem Oil (025006/8002-65-1)—(100%).
87845-2 | 87845 | NASA HERBICIDE | Glyphosate (417300/1071-83-6)—(41%).
87978-5 | 87978 | CHRYSOGEN | Chrysodeixis includens Nucleopolyhedrovirus, isolate #460 (129344/)—(32.7%).
87978-6 | 87978 | SURTIVO | Chrysodeixis includens Nucleopolyhedrovirus, isolate #460 (129344/)—(17.1%), Helicoverpa zea Nucleopolyhedrovirus strain ABA-NPV-U (107200/)—(17.1%).
88080-2 | 88080 | BIRD FREE | Polybutene (011402/9003-29-6)—(70%).
88373-4 | 88373 | STERI-VET | Ethaneperoxoic acid (063201/79-21-0)—(5.9%), Hydrogen peroxide (000595/7722-84-1)—(27.3%).
88373-5 | 88373 | DISIN-VET PLUS | 1-Decanaminium, N,N-dimethyl-N-octyl-, chloride (069165/32426-11-2)—(9.18%), 1-Decanaminium, N-decyl-N,N-dimethyl-, chloride (069149/7173-51-5)—(4.59%), 1-Octanaminium, N,N-dimethyl-N-octyl-, chloride (069166/5538-94-3)—(4.59%), Alkyl* dimethyl benzyl ammonium chloride *(50%C14, 40%C12, 10%C16) (069105/68424-85-1)—(12.24%).
88746-9 | 88746 | Flask Insecticide | Lambda-Cyhalothrin (128897/91465-08-6)—(9.7%).
88746-10 | 88746 | Larvur Insect Bait | Hydramethylnon (118401/67485-29-4)—(1%), Imidacloprid (129099/138261-41-3)—(.5%).
88746-11 | 88746 | Permetron | Permethrin (109701/52645-53-1)—(36.8%).
88746-12 | 88746 | NOVACIDE INSECTICIDE | Etofenprox (128965/80844-07-1)—(1%), Piperonyl butoxide (067501/51-03-6)—(1.5%), Pyrethrins (069001/8003-34-7)—(.15%), S-Methoprene (105402/65733-16-6)—(.09%), Tetramethrin (069003/7696-12-0)—(.25%).
88867-1 | 88867 | PROTECTOR 0.5G | Imidacloprid (129099/138261-41-3)—(.5%).
88867-2 | 88867 | PROTECTOR 2F | Imidacloprid (129099/138261-41-3)—(21.4%).
89850-5 | 89850 | SEMIOS CM PLUS | CheckMate Technical Pheromone (129028/33956-49-9)—(18.05%).
89850-6 | 89850 | SEMIOS OFM PLUS | (E)-8-Dodecen-1-yl acetate (128907/38363-29-0)—(.96%), (Z)-8-Dodecen-1-yl acetate (128906/28079-04-1)—(10.59%), Dodecen-1-ol, (Z)- (128908/40642-40-8)—(.15%).
89850-7 | 89850 | SEMIOS OBLR/PLR PLUS | (Z)-11-Tetradecenyl acetate (128980/20711-10-8)—(14.78%).
89850-16 | 89850 | SEMIOS Z-11-TETRADECENYL ACETATE TECHNICAL PHEROMONE | (Z)-11-Tetradecenyl acetate (128980/20711-10-8)—(96.51%).
90057-1 | 90057 | SHP IMIDACLOPRID TECHNICAL | Imidacloprid (129099/138261-41-3)—(99.16%).
90344-1 | 90344 | POLYLAURIN 120 | Glycerol monolaurate (011290/27215-38-9)—(1.4%), Propylene glycol monolaurate (011288/27194-74-7)—(11.3%).
90856-1 | 90856 | MONOFOIL MF-05 | 1-Octadecanaminium, N,N-dimethyl-N-[3-(trihydroxysilyl)propyl],chloride (107403/199111-50-7)—(3.6%).
90856-2 | 90856 | MONOFOIL M | 1-Octadecanaminium, N,N-dimethyl-N-[3-(trihydroxysilyl)propyl],chloride (107403/199111-50-7)—(1.3%).
90856-4 | 90856 | MONOFOIL D | 1-Octadecanaminium, N,N-dimethyl-N-(3-(trimethoxysilyl)propyl)-, chloride (107401/27668-52-6)—(.13%), Alkyl* dimethyl benzyl ammonium chloride *(60%C14, 30%C16, 5%C18, 5%C12) (069104/53516-76-0)—(.25%), Alkyl* dimethyl ethylbenzyl ammonium chloride *(68%C12, 32%C14) (069154/85409-23-0)—(.25%).
90924-19 | 90924 | PERMACARE PC-12 | 2,2-Dibromo-3-nitrilopropionamide (101801/10222-01-2)—(5%).
91145-4 | 91145 | CATTLE SHIELD SUPER CONCENTRATE SYNERGIZED PERMETHRIN POUR-ON | Permethrin (109701/52645-53-1)—(7.4%), Piperonyl butoxide (067501/51-03-6)—(7.4%).
91145-5 | 91145 | CATTLE SHIELD PERMETHRIN 1% SYNERGIZED POUR-ON | Permethrin (109701/52645-53-1)—(1%), Piperonyl butoxide (067501/51-03-6)—(1%).
91186-1 | 91186 | MT-SORB MIN-DRI | Copper sulfate pentahydrate (024401/7758-99-8)—(3.2%).
91300-1 | 91300 | SHIELDTEC PLUS FOR DOGS | Permethrin (109701/52645-53-1)—(45%), Pyriproxyfen (129032/95737-68-1)—(5%).
91300-2 | 91300 | ADVENTURE PLUS FOR DOGS | Imidacloprid (129099/138261-41-3)—(9.1%), Pyriproxyfen (129032/95737-68-1)—(.46%).
91300-5 | 91300 | PROMIKA ZOGUARD PLUS FOR DOGS | Fipronil (129121/120068-37-3)—(9.8%), S-Methoprene (105402/65733-16-6)—(8.8%).
91300-6 | 91300 | PROMIKA ZOGUARD PLUS FOR CATS | Fipronil (129121/120068-37-3)—(9.8%), S-Methoprene (105402/65733-16-6)—(11.8%).
91300-8 | 91300 | P111.02 for Cats | Fipronil (129121/120068-37-3)—(9.7%).
91300-9 | 91300 | P111.03 FOR DOGS | Fipronil (129121/120068-37-3)—(9.7%).
91386-1 | 91386 | SALT CARTRIDGE FOR GISELLE | Sodium chloride (013905/7647-14-5)—(99.86%).
91399-2 | 91399 | BIOTAB 7 | Sodium chlorite (020502/7758-19-2)—(20%).
92044-2 | 92044 | CHLOROTHALONIL 720SC | Chlorothalonil (081901/1897-45-6)—(54%).
92044-3 | 92044 | CHLOROTHALONIL 82.5 WDG | Chlorothalonil (081901/1897-45-6)—(82.5%).
92188-5 | 92188 | VISMAX INJECTION | Flg22-Bt Peptide (005001/)—(.0048%).
92583-1 | 92583 | Shift 3.9% Ethephon | Ethephon (099801/16672-87-0)—(3.9%).
92587-1 | 92587 | SURFION ADDITIVE | Cupric oxide (042401/1317-38-0)—(3.19%).
92708-1 | 92708 | Organipeel | Citric acid (021801/77-92-9)—(.66%).
92983-5 | 92983 | PROSTIM AA | Cytokinin (as kinetin) (116801/525-79-1)—(.016%), Indole-3-butyric acid (046701/133-32-4)—(.094%).
95337-1 | 95337 | Volcano | Citric acid (021801/77-92-9)—(1.5%).
95535-2 | 95535 | VodaGuard O Algaecide | Sodium percarbonate (128860/15630-89-4)—(82.45%).
95566-1 | 95566 | SEMASPORE BAIT | Nosema locustae (117001/)—(.05%).
96048-1 | 96048 | Sanitized Pro | Hypochlorous Acid (129054/7790-92-3)—(.025%).
96671-1 | 96671 | Zachary Sulfur Dioxide | Sulfur dioxide (077601/7446-09-5)—(100%).
96727-1 | 96727 | Longhorn | Cyanamide (014002/420-04-2)—(50%).
97711-1 | 97711 | Crown Disinfecting Wipes | 1-Decanaminium, N-decyl-N,N-dimethyl-, chloride (069149/7173-51-5)—(.13%), Alkyl* dimethyl benzyl ammonium chloride *(50%C14, 40%C12, 10%C16) (069105/68424-85-1)—(.12%).
98343-1 | 98343 | Disinfecting Floor Wipes | Alkyl* dimethyl benzyl ammonium chloride *(50%C14, 40%C12, 10%C16) (069105/68424-85-1)—(.46%).
98788-1 | 98788 | JUYUAN Disinfecting Wipes | 1-Decanaminium, N-decyl-N,N-dimethyl-, chloride (069149/7173-51-5)—(.16%), Alkyl* dimethyl benzyl ammonium chloride *(50%C14, 40%C12, 10%C16) (069105/68424-85-1)—(.41%).
99503-5 | 99503 | Enviroquat 2D 50e | 1-Decanaminium, N-decyl-N,N-dimethyl-, chloride (069149/7173-51-5)—(50%).
99764-1 | 99764 | Everyday Disinfectant | Hypochlorous Acid (129054/7790-92-3)—(.025%).
100091-1 | 100091 | WaterWise Concentrate Sanitizer Cleaner | Citric acid (021801/77-92-9)—(46.75%).
100368-3 | 100368 | LOW-TEMP SANITIZER | Sodium hypochlorite (014703/7681-52-9)—(5.25%).
100894-1 | 100894 | Prune Master Pruner Treatment | Thymol (080402/89-83-8)—(.051%).
101607-1 | 101607 | Bye Bye Skeeter | Picaridin (070705/119515-38-7)—(20%).
102280-1 | 102280 | SITOFEX Plant Growth Regulator | Forchlorfenuron (128819/68157-60-8)—(.8%).
102563-1 | 102563 | CLETHODIM 2 EC HERBICIDE | Clethodim (121011/99129-21-2)—(26.4%).
102563-2 | 102563 | REBOUND FUNGICIDE | Azoxystrobin (128810/131860-33-8)—(11%), Tebuconazole (128997/107534-96-3)—(18.35%).
AZ231005 | 70299 | SANIDATE 12.0 | Ethaneperoxoic acid (063201/79-21-0)—(12%), Hydrogen Peroxide (000595/7722-84-1)—(18.5%).
FL220005 | 100305 | Remedium TI | Oxytetracycline hydrochloride (006308/2058-46-0)—(94.5%).
FL960004 | 45728 | FERBAM GRANUFLO | Ferbam (034801/14484-64-1)—(76%),.
NC130005 | 45728 | METAM CLR 42% | Metam-sodium (039003/137-42-8)—(42%).
OR210011 | 91810 | ROMEO | Cerevisane (cell walls of Saccharomyces cerevisiae strain LAS117) (100055)—(94.1%).
VA130004 | 45728 | METAM CLR 42% | Metam-sodium (039003/137-42-8)—(42%).
VA130005 | 45728 | METAM KLR 54% | Metam-sodium (039003/137-42-8)—(54%).

Table 4 of this unit includes the names and addresses of record for all registrants of the products in Table 3, in sequence by EPA company number. This number corresponds to the first part of the EPA registration numbers of the products listed in this unit.

Table 4—Registrants of Registrations Cancelled for Non-Response/Payment of 2025 Maintenance Fee
Company No. | Company name and address
322 | FORT DODGE CHEMICAL COMPANY, P.O. BOX 2021, LOMP.O.C, CA 93438
577 | THE SHERWIN-WILLIAMS COMPANY, 101 PROSPECT AVE., CLEVELAND, OH 44115-1075.
961 | LEBANON SEABOARD CORPORATION, 1600 EAST CUMBERLAND STREET, LEBANON, PA 17042.
2935 | WILBUR-ELLIS COMPANY LLC, 2903 S CEDAR AVE., FRESNO, CA 93725.
4582 | COLGATE-PALMOLIVE COMPANY, 300 PARK AVENUE, NEW YORK, NY 10022.
8655 | EASTMAN CHEMICAL COMPANY, P.O. BOX 431, KINGSPORT, TN 37662.
9404 | VOGEL SEED & FERTILIZER, LLC/FLORIDA DIVISION, 1891 SPRING VALLEY ROAD, JACKSON, WI 53037.
10900 | SHERWIN-WILLIAMS CONSUMER BRANDS GROUP, 101 PROSPECT AVE., CLEVELAND, OH 44115-1075.
11411 | LPM MANUFACTURING, INC., 2005 E INDIAN SCHOOL ROAD, PHOENIX, AZ 85016.
23566 | INTERNATIONAL PAINT LLC, 6001 ANTOINE DRIVE, HOUSTON, TX 77091.
33427 | ACETO US, L.L.C., D/B/A/ACTYLIS, 4 TRI HARBOR COURT, PORT WASHINGTON, NY 110504661.
36029 | WILCO DISTRIBUTORS, INC., 6832 NORTH EL MIRAGE RD., GLENDALE, AZ 85307.
36638 | SCENTRY BIOLOGICALS, INC., 610 CENTRAL AVENUE, BILLINGS, MT 59102.
42182 | MICROBAN PRODUCTS COMPANY, 11400 VANSTORY DRIVE, HUNTERSVILLE, NC 28078.
43497 | PROACTIVE SOLUTIONS USA, LLC, 301 BRIDGE STREET, GREEN BAY, WI 54303.
44446 | QUESTSPECIALTY CORPORATION, P.O. BOX 624, BRENHAM, TX 77834.
45600 | INSECTA MARKETING, INC., 29008 BEAUCLAIRE DRIVE, TAVARES, FL 32778.
45728 | TAMINCO US LLC, 200 S WILCOX DR., KINGSPORT, TN 376605147.
46813 | PLZ CORP., 8001 KEELE STREET, VAUGHAN, ONTARIO L4K 1Y8, -
47265 | BOLAN CONSULTING/SHIN-ETSU CHEMICAL CO., LTD., 575 VIEWRIDGE DRIVE, ANGWIN, CA 94508.
50600 | SHEPARD BROS., INC., 503 S CYPRESS ST, LA HABRA, CA 90631.
52991 | BEDOUKIAN RESEARCH INC., 6 COMMERCE DRIVE, DANBURY, CT 06810.
53053 | NOVALENT, LTD, 2319 JOE BROWN DR., GREENSBORO, NC 27405.
53575 | PACIFIC BIOCONTROL CORPORATION, 1831 NW KINGS BLVD, CORVALLIS, OR 97330.
53735 | KING TECHNOLOGY INC., 6000 CLEARWATER DR., MINNETONKA, MN 55343.
55487 | B'S POOL SUPPLIES, 1691 CONTAINER CIRCLE, RIVERSIDE, CA 92509.
56336 | SUTERRA LLC, 20950 NORTHEAST TALUS PLACE, BEND, OR 97701.
56783 | ECOHEALTH, INC., 56 HAWES STREET, BROOKLINE, MA 02446.
56890 | DOHENY'S, LLC, 10411 80TH AVE., PLEASANT PRAIRIE, WI 53158-5811.
61671 | MANN LAKE LTD., 501 1ST STREET SOUTH, HACKENSACK, MN 56452-2001.
61842 | TESSENDERLO KERLEY, INC., 2910 N 44TH ST., SUITE 100, PHOENIX, AZ 85018-7272.
62899 | FORMAFEED, INC., P.O. BOX 9, STEWART, MN 55385.
63802 | US MAGNESIUM LLC, 238 N 2200 W, SALT LAKE CITY, UT 84116.
64137 | DANSTAR FERMENT AG/LALLEMAND PLANT CARE, APO BOX 990, HAILEY, ID 83333.
64321 | REGISTRATIONS BY DESIGN, INC./JESMOND HOLDING AG, P.O. BOX 1019, SALEM, VA 24153-1019.
65146 | IOFINA CHEMICAL, INC., 1025 MARY LAIDLEY DRIVE, COVINGTON, KY 41017.
65169 | IOFINA CHEMICAL, INC., 1025 MARY LAIDLEY DRIVE, COVINGTON, KY 41017.
68660 | SOLVAY CHEMICALS, INC., 1130 INDEPENDENCE PARKWAY, SOUTH, LA PORTE, TX 77571.
68959 | VELTEK ASSOCIATES INC., 15 LEE BOULEVARD, MALVERN, PA 19355-1234.
69117 | ARBORSYSTEMS, INC., 10168 L STREET, OMAHA, NE 68127.
69204 | TOPAZ TURF CORP, 130 CORPORATE DRIVE, HOLTSVILLE, NY 11742.
69274 | CSE, D/B/A DEER NO, 8703 HWY. 17 BYPASS SOUTH, SUITE M-31, SURFSIDE BEACH, SC 29575.
69403 | DEM TECHNOLOGY LLC, 755 ALBANY STREET, DAYTON, OH 45417-3460.
70299 | BIOSAFE SYSTEMS, LLC, 22 MEADOW STREET, EAST HARTFORD, CT 06108.
70553 | MEGHMANI ORGANICS LIMITED, BUTZ CONSULTING LLC, 13411 MARBLE ROCK DR, CHANTILLY, VA 20151.
72961 | SCL ITALIA S.P.A./EXPONENT, INC., 1150 CONN. AVE. NW, SUITE 1100, WASHINGTON, DC 20036.
73479 | SUTERRA LLC, 20950 NORTHEAST TALUS PLACE, BEND, OR 97701.
74468 | PROACTIVE, LLC, 10529 HERITAGE BAY BLVD., NAPLES, FL 34120.
74530 | HELM AGRO US, INC., 401 E JACKSON ST., SUITE 1600, TAMPA, FL 33602.
74779 | RAINBOW TREECARE SCIENTIFIC ADVANCEMENTS, 11571 K-TEL DRIVE, MINNETONKA, MN 55343.
75337 | AGRICARE, INC., P.O. BOX 399, AMITY, OR 97101.
79894 | PHARMA + VET INC., P.O. BOX 11447, SAN JUAN, PR 00922.
81899 | SOLUNEEM, INC., 7049 REDWOOD BLVD., SUITE 201C, NOVATO, CA 94947.
82012 | COPPER DEVELOPMENT ASSOCIATION (CDA), 260 MADISON AVENUE, NEW YORK, NY 10016-2401.
82484 | DEEPREACH OXIDATION L.L.C., 3221 BART CONNER DR., SUITE A, NORMAN, OK 74072.
83558 | ADAMA, 8601 SIX FORKS ROAD, SUITE 300, RALEIGH, NC 27615.
84059 | PRO FARM GROUP, INC., 1530 DREW AVE., DAVIS, CA 95618.
85353 | WIELAND NORTH AMERICA, INC., 305 LEWIS & CLARK BOULEVARD, EAST ALTON, IL 62024.
85678 | REDEAGLE INTERNATIONAL LLC, 5143 S LAKELAND DRIVE, SUITE 4, LAKELAND, FL 33813-2589.
85724 | AAKO B.V./LANDIS INTERNATIONAL, INC., 3185 MADISON HIGHWAY, VALDOSTA, GA 31603-5126.
85797 | TDA RESEARCH, INC., 12345 WEST 52ND AVENUE, WHEAT RIDGE, CO 80033.
87394 | DYNA-GRO, 2775 GIANT ROAD, RICHMOND, CA 94806.
87845 | AGROMARKETING CO, INC., 314 ESTATE COURT, MIDLAND, ON L4R 5H2.
87978 | AGBITECH PTY LTD/FORSTER & ASSOC. CONSULTING, LLC, P.O. BOX 4097, GREENVILLE, DE 19807.
88080 | JEONJINBIO CO., LTD., 5807 CHURCHILL WAY, MEDINA, OH 44256.
88373 | INNOVACYN, INC., 3546 N RIVERSIDE AVE., RIALTO, CA 92377.
88746 | SOLUTIONS PEST & LAWN, 2739 PASADENA BLVD, PASADENA, TX 77502.
88867 | WILLAPA-GRAYS HARBOR OYSTER GROWERS ASSOCIATION, P.O. BOX 3, OCEAN PARK, WA 98640.
89850 | SEMIOSBIO TECHNOLOGIES INC., 22 EAST 5TH AVENUE, SUITE 300, VANCOUVER, BC V5T1G8.
90057 | MANNA PRO PRODUCTS, LLC, 707 SPIRIT 40 PARK DR., SUITE 150, ST. LOUIS, MO 63005.
90344 | COPPERHEAD CHEMICAL COMPANY INC, 120 RIVER ROAD, TAMAQUA, PA 18252.
90856 | APPLY GUARD, LLC, 2635 S F STREET, ELWOOD, IN 46036.
90924 | CHAMPIONX, LLC, 11177 S STADIUM DRIVE, SUGAR LAND, TX 77478.
91145 | OTC CHEMICAL, LLC., P.O. BOX 7995, CAVE CREEK, AZ 85237.
91186 | MINTECH ABSORBENTS, LLC, 3803 COMMODORE TRAIL, BLOOMINGTON, IN 47408.
91300 | PROMIKA, LLC D/B/A OF MANNA PRO PRODUCTS, 707 SPIRIT 40 PARK DR., SUITE 150, ST. LOUIS, MO 63005.
91386 | INDUSTRIE DE NORA, S.P.A., 7590 DISCOVERY LANE, CONCORD, OH 44077.
91399 | ADVANCED BIOCIDE TECHNOLOGIES INC., 3551 RED BARN LANE, ORMOND BEACH, FL 32174.
91810 | LESAFFRE YEAST CORPORATION, 7475 W MAIN STREET, MILWAUKEE, WI 53214.
92044 | CAC CHEMICAL AMERICAS LLC, 1178 BROADWAY, 3RD FLOOR #3766, NEW YORK, NY 10001.
92188 | ELEMENTAL ENZYMES AG AND TURF LLC., 1685 GALT INDUSTRIAL BLVD., SAINT LOUIS, MO 63132.
92583 | TULSI ENTERPRISES LTD., 5807 CHURCHILL WAY, MEDINA, OH 44256.
92587 | QTEK, LLC, 20316 CHASSELL PAINESDALE ROAD, CHASSELL, MI 49916.
92708 | APEEL SCIENCES, 71 SOUTH LOS CARNEROS ROAD, GOLETA, CA 93117.
92983 | SUNTTON INTERNATIONAL INC., 9127 HIGHWAY 431 SOUTH, SUITE C, OWENS CROSS ROADS, AL 35763.
95337 | GURUNANDA, LLC, 6645 CABALLERO BLV., BUENA PARK, CA 90620.
95535 | AMOVODAGUARD INC., 314 ESTATE COURT, MIDLAND, ON L4R5H2.
95566 | ORGANIC FANATICS BIOLOGICS, LLC, 940 KODIAK PLACE, BELGRADE, MT 59714.
96048 | LONESTAR STIM PRODUCTS, LLC, 316 PROMENADE SY., S, MONTGOMERY, TX 77356.
96671 | ZACHARY ENTERPRISES INC., 13074 ZACHARY AVENUE, MCFARLAND, CA 93250.
96727 | HERITAGE CROP SCIENCE, LLC, 726 W BARSTOW AVENUE, SUITE 108, FRESNO, CA 93704.
97711 | CROWN (YANGZHOU) HEALTH & BEAUTY CO./SUPERIOR ELITE SERVICES LLC, L11906 BRITTMOORE PARK DRIVE, HOUSTON, TX 77041.
98343 | HANGZHOU JUST CLEAN TECHNOLOGY CO., LTD/REACH24H CONSULTING, 11921 FREEDOM DRIVE, SUITE 550, RESTON, VA 20190.
98788 | CANGZHOU JUYUAN SANITARY PRODUCTS CO., LTD, 11921 FREEDOM DRIVE, SUITE 550, RESTON, VA 20190.
99503 | ENVIRONMENTAL FLUIDS, INC., 4241 N WINFIELD SCOTT PLAZA, SUITE 101, SCOTTSDALE, AZ 85821.
99764 | DEAR PLANET LABS, INC., 169 WEST ORANGETHROPE AVENUE, PLACENTIA, CA 92870.
100091 | GREENOLOGY PRODUCTS, LLC, 7020 CYNROW BLVD., RALEIGH, NC 27615.
100305 | CENTURY PHARMACEUTICALS LTD, 406 WORLD TRADE CENTER, SAYAJIGUNJ, VADODARA, INDIA.
100368 | PYROCK CHEMICAL, 2110 RANCH ROAD 620 S, UNIT 342712, LAKEWAY, TX 78734.
100894 | BGREEN, INC., 72877 DINAH SHORE DRIVE, SUITE 103, RANCHO MIRAGE, CA 92270.
101607 | THE BYE BYE COMPANY, 12907 LEMUR LANE, CYPRESS, TX 77429.
102280 | ALZCHEM LLC, 11390 OLD ROSWELL ROAD, SUITE 124, ALPHARETTA, GA 30009.
102563 | AGROSHIELD, 15 HENSON LANE, FLORISSANT, MO 63031.

III. Summary of Public Comments Received and Agency Response to Comments

As indicated in Unit I.C., EPA did receive comments in response to the notice of receipt that published in the Federal Register of August 5, 2025, including comments from registrants to withdraw their requests to cancel their registrations. Accordingly, EPA has removed those products from Table 3 and the company name and address from Table 4.

IV. Provisions for Disposition of Existing Stocks

Existing stocks are those stocks of registered pesticide products which are currently in the United States, and which were packaged, labeled, and released for shipment prior to the effective date of the cancellation action. The existing stocks provisions for the products subject to this order are as follows.

Registrants may continue to sell and distribute existing stocks of these products until January 15, 2026. Thereafter, registrants will be prohibited from selling or distributing the pesticides identified in Tables 1 and 3 of Unit II., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: October 9, 2025.
Charles Smith,
Director, Registration Division, Office of Pesticide Programs.

[FR Doc. 2025-19553 Filed 10-14-25; 8:45 am]

BILLING CODE 6560-50-P